DEPARTMENT OF COMMERCE

National Oceanic and Atmospheric Administration

[RTID 0648-XF528]

Fisheries of the Caribbean, Gulf and Atlantic; Southeast Data, Assessment, and Review; Public Meeting

AGENCY: National Marine Fisheries Service (NMFS), National Oceanic and Atmospheric Administration (NOAA), Commerce.

ACTION: Notice of Southeast Data, Assessment, and Review 101 Data Workshop for Highly Migratory Species Sandbar Sharks.

SUMMARY: The Southeast Data, Assessment, and Review (SEDAR) 101 assessment process of Highly Migratory Species (HMS) Sandbar Sharks will consist of a Data Workshop, an Assessment Process coordinated externally of SEDAR, and a Desk Review. See SUPPLEMENTARY INFORMATION.

DATES: The SEDAR 101 Data Workshop will be held from 8:30 a.m. on April 21, 2026, until 12 p.m. on April 24, 2026.

ADDRESSES:

Meeting address: The SEDAR 101 Data Workshop will be held in person at the Town and Country Inn and Suites, 2008 Savannah Hwy., Charleston, SC 29407. The established times may be adjusted as necessary to accommodate the timely completion of discussion relevant to the assessment process. Such adjustments may result in the meeting being extended from or completed prior to the time established by this notice.

SEDAR address: 4055 Faber Place Drive, Suite 201, North Charleston, SC 29405. www.sedarweb.org.

FOR FURTHER INFORMATION CONTACT: Emily Ott, SEDAR Coordinator; (843) 302-8434. Email: Emily.Ott@safmc.net.

SUPPLEMENTARY INFORMATION: The Gulf, South Atlantic, and Caribbean Fishery Management Councils, in conjunction with the National Marine Fisheries Service and the Atlantic and Gulf States Marine Fisheries Commissions have implemented the SEDAR process. SEDAR is a participatory process for developing, evaluating and reviewing information used for fisheries management advice. This multi-step process for determining the status of fish stocks in the Southeast Region may include (1) a Data stage, and (2) an Assessment stage, and (3) a Review stage. Each stage produces a report summarizing decisions made during that stage. A final stock assessment report is produced at the end of a SEDAR process documenting data sets used, model configurations and the opinions from the independent peer review. Participants for SEDAR projects are appointed by the Gulf, South Atlantic, and Caribbean Fishery Management Councils and National Marine Fisheries Service Southeast Regional Office, HMS Management Division, and Southeast Fisheries Science Center. Participants may include data collectors and database managers; stock assessment scientists, biologists, and researchers; constituency representatives including fishermen, environmentalists, and non-governmental organizations (NGO's); International experts; and staff of Councils, Commissions, and state and Federal agencies.

The items of discussion in the Data Workshop are as follows:

An assessment data set and associated documentation will be developed during the workshop. Participants will evaluate proposed data and select appropriate sources for providing information on life history characteristics, landings (including both recreational and commercial) and fishery dependent and fishery independent measures of stock abundance. Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Special Accommodations

These meetings are physically accessible to people with disabilities. Requests for sign language interpretation or other auxiliary aids should be directed to the Council office (see ADDRESSES) at least 5 business days prior to each workshop.

Note: The times and sequence specified in this agenda are subject to change.

Authority: 16 U.S.C. 1801 et seq.

Dated: February 20, 2026.
Becky J. Curtis,
Acting Deputy Director, Office of Sustainable Fisheries, National Marine Fisheries Service.

[FR Doc. 2026-03644 Filed 2-23-26; 8:45 am]

BILLING CODE 3510-22-P